SURFACE TRANSPORTATION BOARD

[Docket No. FD 36129]

Iowa River Railroad, Inc.—Acquisition and Operation Exemption—Rail Line of North Central Railway Association, Inc.

Iowa River Railroad, Inc. (IRR), a Class III rail carrier, has filed a verified notice of exemption under 49 CFR 1150.41 to acquire from North Central Railway Association, Inc., and operate 0.59 miles of rail line, between Milepost 200.87 and Milepost 201.46, at or near Ackley, in Hardin County, Iowa.

IRR certifies that the projected annual revenues as a result of this transaction will not result in the creation of a Class II or Class I rail carrier and will not exceed $5 million.

IRR further certifies that the transaction does not include an interchange commitment.

The transaction may be consummated on July 13, 2017, the effective date of the exemption (30 days after the verified notice was filed).

If the notice contains false or misleading information, the exemption is void ab initio. Petitions to revoke the exemption under 49 U.S.C. 10502(d) may be filed at any time. The filing of a petition to revoke will not automatically stay the transaction. Petitions for stay must be filed no later than July 6, 2017 (at least seven days before the exemption becomes effective).

An original and 10 copies of all pleadings, referring to Docket No. FD 36129, must be filed with the Surface Transportation Board, 395 E Street SW., Washington, DC 20423-0001. In addition, one copy of each pleading must be served on T. Scott Bannister, 111 SW., Fifty-Sixth St., Des Moines, IA 50312.

According to IRR, this action is categorically excluded from environmental review under 49 CFR 1105.6(c).

Board decisions and notices are available on our Web site at WWW.STB.GOV.

Decided: June 26, 2017.
By the Board, Rachel D. Campbell, Director, Office of Proceedings.
Marline Simeon,
Clearance Clerk.

[FR Doc. 2017-13645 Filed 6-28-17; 8:45 am]

BILLING CODE 4915-01-P